NUCLEAR REGULATORY COMMISSION

[NRC-2015-0009]

In the Matter of All Operating Reactor Licensees With Mark I Containments

AGENCY: Nuclear Regulatory Commission.

ACTION: Director's decision under 10 CFR 2.206; issuance.

SUMMARY: The U.S. Nuclear Regulatory Commission (NRC) has issued a director's decision with regard to a petition dated April 13, 2011, filed by Mr. Paul Gunter, Director for Reactor Oversight Project of Beyond Nuclear (the petitioner), requesting that the NRC take action with regard to all operating General Electric (GE) Boiling Water Reactor (BWR) licensees with Mark I primary containment system (the licensees).

DATES: January 23, 2015.

ADDRESSES: Please refer to Docket ID NRC-2015-0009 when contacting the NRC about the availability of information regarding this document. You may obtain publicly-available information related to this document using any of the following methods:

• Federal Rulemaking Web site: Go to http://www.regulations.gov and search for Docket ID NRC-2015-0009. Address questions about NRC dockets to Carol Gallagher; telephone: 301-287-3442; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

FOR FURTHER INFORMATION CONTACT: Siva P. Lingam, Office of Nuclear Reactor Regulation, U.S. Nuclear Regulatory Commission, Washington, DC 20555-0001; telephone: 301-415-1564, email: Siva.Lingam@nrc.gov.

SUPPLEMENTARY INFORMATION: Notice is hereby given that the Deputy Director, Office of Nuclear Reactor Regulation, has issued a director's decision (ADAMS Accession No. ML14337A243) on a petition filed by the petitioner on April 13, 2011 (ADAMS Accession No. ML11104A058).

The petitioner requested that the NRC order the immediate suspension of the operating licenses of all GE BWRs that utilize the Mark I primary containment system. As the basis of the request, the petitioner cited the events in Japan at the Fukushima Dai-Ichi nuclear power plant.

On June 8, 2011 and October 7, 2011, the petitioner met with the NRC's Petition Review Board. The meeting provided the petitioner an opportunity to provide additional information and to clarify the issues cited in the petition. Information regarding those meetings, including meeting transcripts are available in ADAMS under Package Accession Nos. ML11166A137 and ML11292A159 respectively.

The NRC sent a copy of the proposed director's decision to the petitioner and the licensees for comments on October 27, 2014 (ADAMS Package Accession No. ML14198A098). The petitioner and the licensees were asked to provide comments within 30 days on any part of the proposed director's decision that was considered to be erroneous or any issues in the petition that were not addressed. The NRC staff did not receive comments on the proposed director's decision.

The Deputy Director of the Office of Nuclear Reactor Regulation has determined that the request, to require that the NRC order the immediate suspension of the operating licenses of all GE BWRs that utilize the Mark I primary containment system, was resolved through the issuance of orders, written statements in accordance with Title 10 of the Code of Federal Regulations (10 CFR), rulemaking, and the Emergency Response Data System initiative. The reasons for this decision are explained in the director's decision (DD-15-01) pursuant to 10 CFR 2.206 of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 15th day of January, 2015.
For the Nuclear Regulatory Commission.
Jennifer L. Uhle,
Deputy Director, for Reactor Safety Programs Office of Nuclear Reactor Regulation.

[FR Doc. 2015-01197 Filed 1-22-15; 8:45 am]

BILLING CODE 7590-01-P